DEPARTMENT OF COMMERCE

International Trade Administration

[A-560-822, A-557-813, A-570-886, A-583-843, A-549-821, A-552-806]

Polyethylene Retail Carrier Bags From Indonesia, Malaysia, the People's Republic of China, Taiwan, Thailand, and the Socialist Republic of Vietnam: Final Results of the Expedited Sunset Reviews of the Antidumping Duty Orders

AGENCY: Enforcement and Compliance, International Trade Administration, Department of Commerce.

SUMMARY: As a result of these expedited sunset reviews, the Department of Commerce (Commerce) finds that revocation of the antidumping duty (AD) orders on polyethylene retail carrier bags from Indonesia, Malaysia, the People's Republic of China, Taiwan, Thailand, and the Socialist Republic of Vietnam would be likely to lead to continuation or recurrence of dumping as indicated in the “Final Results of Sunset Review” section of this notice.

DATES: Applicable July 6, 2021.

FOR FURTHER INFORMATION CONTACT: Allison Hollander or Minoo Hatten, AD/CVD Operations, Office I, Enforcement and Compliance, International Trade Administration, U.S. Department of Commerce, 1401 Constitution Avenue NW, Washington, DC 20230; telephone: (202) 482-2805 or (202) 482-1690, respectively.

SUPPLEMENTARY INFORMATION:

Background

On March 31, 2021, Commerce published the notice of initiation of the sunset reviews of the AD orders on polyethylene retail carrier bags (PRCBs) from Indonesia, Malaysia, the People's Republic of China (China), Taiwan, Thailand, and the Socialist Republic of Vietnam (Vietnam) ¹ pursuant to section 751(c) of the Tariff Act of 1930, as amended (the Act).² In accordance with 19 CFR 351.218(d)(1)(i) and (ii), Commerce received notices of intent to participate in these sunset reviews from the Polyethylene Retail Carrier Bag Committee (the domestic interested party) within 15 days after the date of publication of the Initiation Notice.³ The domestic interested party claimed interested party status under sections 771(9)(C) and (E) of the Act.

¹ See Antidumping Duty Orders: Polyethylene Retail Carrier Bags from Indonesia, Taiwan, and the Socialist Republic of Vietnam, 75 FR 23667 (May 4, 2010); see also Antidumping Duty Order: Polyethylene Retail Carrier Bags from Malaysia, 69 FR 48203 (August 9, 2004); Antidumping Duty Order: Polyethylene Retail Carrier Bags from The People's Republic of China, 69 FR 48201 (August 9, 2004); Antidumping Duty Order: Polyethylene Retail Carrier Bags from Thailand, 69 FR 48204 (August 9, 2004) (collectively, AD Orders).

² See Initiation Notice of Five-Year (Sunset) Reviews, 86 FR 16701 (March 31, 2021) (Initiation Notice).

³ See Polyethylene Retail Carrier Bag Committee's Letters, “Five-Year (“Sunset”) Review of Antidumping Duty Order on Polyethylene Retail Carrier Bags from Indonesia: Domestic Industry Notice of Intent to Participate in Sunset Review,” dated April 9, 2021; “Five-Year (“Sunset”) Review of Antidumping Duty Order on Polyethylene Retail Carrier Bags from Malaysia: Domestic Industry Notice of Intent to Participate in Sunset Review,” dated April 9, 2021; “Five-Year (“Sunset”) Review Of Antidumping Duty Order On Polyethylene Retail Carrier Bags from the People's Republic of China: Domestic Industry Notice Of Intent to Participate in Sunset Review,” dated April 9, 2021; “Five-Year (“Sunset”) Review Of Antidumping Duty Order on Polyethylene Retail Carrier Bags from Taiwan: Domestic Industry Notice of Intent to Participate In Sunset Review,” dated April 9, 2021; “Five-Year (“Sunset”) Review of Antidumping Duty Order on Polyethylene Retail Carrier Bags from Thailand: Domestic Industry Notice of Intent to Participate in Sunset Review,” dated April 9, 2021; “Five-Year (“Sunset”) Review Of Antidumping Duty Order on Polyethylene Retail Carrier Bags from the Socialist Republic of Vietnam: Domestic Industry Notice of Intent to Participate In Sunset Review,” dated April 9, 2021. The Polyethylene Retail Carrier Bag Committee is comprised of Hilex Poly Co., LLC and Superbag Corporation.

Commerce received adequate substantive responses to the Initiation Notice from the domestic interested party within the 30-day period specified in 19 CFR 351.218(d)(3)(i).⁴ Commerce received no substantive responses from any respondent interested parties. In accordance with section 751(c)(3)(B) of the Act and 19 CFR 351.218(e)(1)(ii)(C)(2), Commerce conducted expedited, i.e., 120-day, sunset reviews of the AD Orders.

⁴ See Polyethylene Retail Carrier Bag Committee's Letters, “Five-Year (`Sunset') Review Of Antidumping Duty Order on Polyethylene Retail Carrier Bags from Indonesia: Domestic Industry's Substantive Response,” dated May 1, 2015; “Second Five-Year (`Sunset') Review Of Antidumping Duty Order on Polyethylene Retail Carrier Bags from Malaysia: Domestic Industry's Substantive Response,” dated May 1, 2015; “Second Five-Year (`Sunset') Review of Antidumping Duty Order on Polyethylene Retail Carrier Bags from the People's Republic of China: Domestic Industry's Substantive Response,” dated May 1, 2015; “Five-Year (`Sunset') Review of Antidumping Duty Order on Polyethylene Retail Carrier Bags from Taiwan: Domestic Industry's Substantive Response,” dated May 1, 2015; “Second Five-Year (`Sunset') Review of Antidumping Duty Order on Polyethylene Retail Carrier Bags from Thailand: Domestic Industry's Substantive Response,” dated May 1, 2015; and “Five-Year (`Sunset') Review of Antidumping Duty Order on Polyethylene Retail Carrier Bags from the Socialist Republic of Vietnam: Domestic Industry's Substantive Response,” dated May 1, 2015.

Scope of the Orders

The merchandise subject to the AD Orders is PRCBs which are currently classified under subheading 3923.21.0085 of the Harmonized Tariff Schedule of the United States (HTSUS). The HTSUS number is provided for convenience and customs purposes. A full description of the scope of the AD Orders is contained in the Issues and Decision Memorandum.⁵ The written description is dispositive.

⁵ See Memorandum, “Issues and Decision Memorandum for the Expedited Sunset Reviews of the Antidumping Duty Orders on Polyethylene Retail Carrier Bags from Indonesia, Malaysia, the People's Republic of China, Taiwan, Thailand, and the Socialist Republic of Vietnam,” dated concurrently with, and hereby adopted by, this notice (Issues and Decision Memorandum).

Analysis of Comments Received

All issues raised in this review are addressed in the Issues and Decision Memorandum, including the likelihood of continuation or recurrence of dumping in the event of revocation and the magnitude of dumping margins likely to prevail if the order was revoked. Parties can find a complete discussion of all issues raised in this review and the corresponding recommendations in the Issues and Decision Memorandum, which is on file electronically via Enforcement and Compliance's Antidumping and Countervailing Duty Centralized Electronic Service System (ACCESS). ACCESS is available to registered users at http://access.trade.gov. In addition, a complete version of the Issues and Decision Memorandum can be found at http://enforcement.trade.gov/frn/index.html.

Final Results of Sunset Review

Pursuant to sections 751(c) and 752(c) of the Act, Commerce determines that revocation of the AD Orders would be likely to lead to continuation or recurrence of dumping and the magnitude of the margins of dumping likely to prevail would be weighted-average margins up to the following percentages:

Country | Weighted- average margin (percent)
Indonesia | 85.17
Malaysia | 101.74
China | 77.57
Taiwan | 95.81
Thailand | 122.88
Vietnam | 76.11

Notification Regarding Administrative Protective Orders

This notice serves as a reminder to parties subject to administrative protective order (APO) of their responsibility concerning the disposition of proprietary information disclosed under APO in accordance with 19 CFR 351.305(a). Timely written notification of the destruction of APO materials or conversion to judicial protective order is hereby requested. Failure to comply with the regulations and terms of an APO is a violation which is subject to sanction.

Notification to Interested Parties

Commerce is issuing and publishing these final results and notice in accordance with sections 751(c), 752(c), and 777(i)(1) of the Act and 19 CFR 351.221(c)(5)(ii).

Dated: June 25, 2021.
James Maeder,
Deputy Assistant Secretary for Antidumping and Countervailing Duty Operations.

Appendix—List of Topics Discussed in the Issues and Decision Memorandum

I. Summary

II. Background

III. Scope of the Orders

IV. History of the Orders

V. Legal Framework

VI. Discussion of the Issues

VII. Final Results of Expedited Sunset Reviews

VIII. Recommendation

[FR Doc. 2021-14253 Filed 7-2-21; 8:45 am]

BILLING CODE 3510-DS-P